DEPARTMENT OF TRANSPORTATION

Federal Aviation Administration

Agency Information Collection Activities: Requests for Comments; Clearance of Renewed Approval of Information Collection: Fractional Aircraft Ownership Programs

AGENCY: Federal Aviation Administration (FAA), DOT.

ACTION: Notice and request for comments.

SUMMARY: In accordance with the Paperwork Reduction Act of 1995, FAA invites public comments about our intention to request the Office of Management and Budget (OMB) approval for to renew an information collection. The Federal Register Notice with a 60-day comment period soliciting comments on the following collection of information was published on July 23, 2018. Each fractional ownership program manager and each fractional owner must comply with regulations. Information is used to determine if these entities are operating in accordance with the minimum safety standards of these regulations. The FAA will use the information it reviews and collects to evaluate the effectiveness of the program and make improvements as needed, and ensure compliance and adherence to regulations.

DATES: Written comments should be submitted by October 19, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

PUBLIC COMMENTS INVITED: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0684.

Title: Fractional Aircraft Ownership Programs.

Form Numbers: There are no FAA forms associated with this collection.

Type of Review: This is a renewal of an existing information collection.

Background: The Federal Register Notice with a 60-day comment period soliciting comments on the following collection of information was published on July 23, 2018 (83 FR 34910). Fractional Ownership is a program that offers increased flexibility in aircraft ownership. Owners purchase shares of an aircraft and agree to share their aircraft with others having an ownership share in that same aircraft. Owners agree to put their aircraft into a “pool” of other shared aircraft and to lease their aircraft to another owner in that pool. Each fractional ownership program manager and each fractional owner must comply with the requirements of 14 CFR part 91, subpart K. Information is used to determine if these entities are operating in accordance with the minimum safety standards of these regulations. The FAA will use the information it reviews and collects to evaluate the effectiveness of the program and make improvements as needed, and ensure compliance and adherence to regulations.

Respondents: 8 fractional aircraft program managers/operators.

Frequency: Information is collected on occasion.

Estimated Average Burden per Response: 1 hour, 20 minutes.

Estimated Total Annual Burden: 13,736 hours, or 1,717 hours per respondent.

Issued in Washington, DC, on September 8, 2018.
Barbara Hall,
FAA Information Collection Clearance Officer, IT Enterprises Business Services Division, ASP-110.

[FR Doc. 2018-20293 Filed 9-18-18; 8:45 am]

BILLING CODE 4910-13-P